LIBRARY OF CONGRESS

U.S. Copyright Office

[Docket No. 2015-01]

Extension of Reply Comment Period: Copyright Protection for Certain Visual Works

AGENCY: U.S. Copyright Office, Library of Congress.

ACTION: Extension of reply comment period.

SUMMARY: The Copyright Office is extending the period to submit public reply comments regarding its April 24, 2015 Notice of Inquiry requesting comments on how certain visual works, particularly photographs, graphic artworks, and illustrations, are monetized, enforced, and registered under the Copyright Act.

DATE: Reply comments are due October 1, 2015.

ADDRESSES: All comments should be submitted electronically using the comment submission page on the Office Web site at http://copyright.gov/policy/visualworks/. To meet accessibility standards, submitters must upload comments in a single file not to exceed six (6) megabytes (MB) in one of the following formats: The Adobe Portable Document File (PDF) format that contains searchable, accessible text (not an image); Microsoft Word; WordPerfect; Rich Text Format (RTF); or ASCII text file format (not a scanned document). The form and face of the comments must include the submitter's name and organization (if any). The Office will post all comments publicly on the Office's Web site exactly as they are received, along with names and organizations. If electronic submission of comments is not feasible, please contact the Office at 202-707-8350 for special instructions.

FOR FURTHER INFORMATION CONTACT: Catherine Rowland, Senior Advisor to the Register of Copyrights, by email at crowland@loc.gov or by telephone at 202-707-8350.

SUPPLEMENTARY INFORMATION: On April 24, 2015, the Copyright Office published a Notice of Inquiry inviting public comments on certain visual works. The initial comments were due on July 23, 2015 and reply comments currently are due on August 24, 2015. It appears, however, that some stakeholders may need additional time to file reply comments. To facilitate full and adequate public comment, the Office hereby extends the time for filing reply comments from August 24, 2015 to October 1, 2015.

Dated: July 21, 2015.
Catherine Rowland,
Senior Advisor to the Register of Copyrights.

[FR Doc. 2015-18192 Filed 7-23-15; 8:45 am]

BILLING CODE 1410-30-P